NATIONAL FOUNDATION FOR THE ARTS AND THE HUMANITIES

Institute of Museum and Library Services

Notice of Proposed Information Collection Request: Museum Capacity-Building Programs Assessment Project

AGENCY: Institute of Museum and Library Services.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the addressee section below on or before March 28, 2019.

ADDRESSES: Send comments to: Dr. Sandra Webb, Director, Office of Grants Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

FOR FURTHER INFORMATION CONTACT: Paula Gangopadhyay, Deputy Director, Office of Museum Services, Institute of Museum and Library Services, 955 L'Enfant Plaza North SW, Suite 4000, Washington, DC 20024-2135. She can be reached by Telephone: 202-653-4717 Fax: 202-653-4608, or by email at pgangopadhyay@imls.gov, or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

Over its history, the Institute of Museum and Library Services (IMLS) has invested in a wide range of organizational capacity building and technical assistance for the museum sector through grant making and special initiatives. Through this project, IMLS seeks to strengthen the alignment of its investments, and other offerings in the sector, and understand the full scope of existing museum capacity building opportunities, including but not limited to organizational assessment, coaching, cohort learning, self-driven communities of practice, and self-serve resources. Through this assessment project, IMLS seeks to obtain a holistic view of the museum target audience and needs for capacity building support, identify potential gaps in the suite of current offerings, and define both opportunities and partnerships for new and expanded offerings. This action is to seek approval for the survey forms and instructions for the Museum Capacity-Building Assessment Programs for the next three years.

Agency: Institute of Museum and Library Services.

Title: Museum Capacity-Building Programs Assessment Project.

OMB Number: 3137-TBD.

Frequency: Once a year.

Affected Public: Museum staff.

Number of Respondents: TBD.

Estimated Average Burden per Response: TBD hours.

Estimated Total Annual Burden: TBD hours.

Total Annualized capital/startup costs: n/a.

Total Annual costs: $TBD.

Public Comments Invited: Comments submitted in response to this notice will be summarized and/or included in the request for OMB's clearance of this information collection. IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

Dated: January 28, 2019.
Kim Miller,
Grants Management Specialist, Institute of Museum and Library Services.

[FR Doc. 2019-00582 Filed 1-31-19; 8:45 am]

BILLING CODE 7036-01-P